ENVIRONMENTAL PROTECTION AGENCY

[ER-FRL-6620-5]

Environmental Impact Statements; Notice of Availability

Responsible Agency: Office of Federal Activities, General Information (202) 564-7167 or www.epa.gov/oeca/ofa.

Weekly receipt of Environmental Impact Statements

Filed July 23, 2001 Through July 27, 2001

Pursuant to 40 CFR 1506.9.

EIS No. 010272, Draft EIS, AFS, WA, Stimson Access Project, To Access their Private Property through National Forest System Lands, Idaho Panhandle National Forests, Priest Lake Ranger District, Pend Oreille County, WA, Comment Period Ends: September 17, 2001, Contact: Debbie Butler (208) 443-2512.

EIS No. 010273, Draft EIS, NPS, DC, Mary McLeod Bethune Council House National Historic Site, Implementation, General Management Plan, Washington, DC, Comment Period Ends: October 5, 2001, Contact: Diann Jacox (202) 673-2402. This document is available on the Internet at http://www.MAMC—GMP@nps.gov.

EIS No. 010274, Final EIS, AFS, ID, Starbucky Restoration Project, Implementation of Vegetative Treatment, Road Construction and Watershed Improvements, Nez Perce National Forest, Red River Ranger District, Idaho County, ID, Wait Period Ends: September 4, 2001, Contact: Kevin Martin (208) 842-2245.

EIS No. 010275, Final EIS, BOP, LA, Pollock Federal Correctional Institution, Construction and Operation, near Town of Pollock, Grant Parish, LA, Wait Period Ends: September 4, 2001, Contact: David J. Dorworth (202) 514-6470.

EIS No. 010276, Draft EIS, AFS, MT, West Lake Timber Sale and Road Decommissioning Project, Implementation, Gallatin National Forest, Hebgen Lake Ranger District, Gallatin County, MT, Comment Period Ends: October 2, 2001, Contact: Susan Lamont (406) 832-6976. This document is available on the Internet at www.fs.fed.us/rl/gallatin/projects/wlake.shtml.

EIS No. 010277, Draft EIS, AFS, UT, Griffin Springs Resource Management Project, Implementation, Commercial Timber Harvesting, Aspen Regeneration, Management Ignited Prescribed Fire, and Road Work, Dixie National Forest, Escalante Ranger District, Garfield County, UT, Comment Period Ends: September 17, 2001, Contact: Mary Wagner (435) 865-3701.

EIS No. 010278, Draft EIS, AFS, CA, Mineral Forest Recovery Project, Proposes to Construct Defensible Fuel Profile Zones (DFPZs), Lassen National Forest, Almanor Ranger District, Tehama County, CA, Comment Period Ends: September 17, 2001, Contact: Mary Lou Mini (530) 258-2141.

EIS No. 010279, Draft EIS, AFS, ID, Little Blacktail Ecosystem Restoration Project, To Improve the Health and Productivity of Terrestrial and Aquatic Habitats, Idaho Panhandle National Forests, Sandpoint Ranger District, Bonner County, ID, Comment Period Ends: September 17, 2001, Contact: Nancy Kertis (208) 265-6616. This document is available on the Internet at http://www.fs.fed.us/ipnf/eco/manage/nepa/index.html.

EIS No. 010280, Draft Supplement, FHW, IA, IA-100 Extension Around Cedar Rapids, Edgewood Road to US 30, Reevaluation of the Project Corridor and Changes in Environmental Requirements, Funding and US Army COE 404 Permit Issuance, Linn County, IA , Comment Period Ends: September 24, 2001, Contact: Bobby W. Blackmon (515) 233-7300.

EIS No. 010281, Draft EIS, FTA, CA, BART-Oakland International Airport Connector, Extending south from the Existing Coliseum BART Station, about 3.2 miles, to the Airport Terminal Area, Alameda County, CA, Comment Period Ends: September 17, 2001, Contact: Donna Turchie (415) 744-3116.

EIS No. 010282, Draft Supplement, FHW, NC, US-1 Transportation Improvements, Updated Information, From Sandhill Road (NC 1971) to just North of Fox Road (NC 1606) to Marston Road (NC 1001) Associated with this Extension, Funding, and COE Section 404 Permit, City of Rockingham, Richmond County, NC , Comment Period Ends: September 17, 2001, Contact: Nicholas L. Graf, P.E. (919) 856-4346.

EIS No. 010283, Draft EIS, AFS, PR, Caribbean National Forest, Constructing the Rio Sabana Picnic Area Construction, Rio Sabana Trail Reconstruction and Highway PR 191 Reconstruction from Km. 21.3 to Km 20.0, Special-Use-Permit, PR, Comment Period Ends: September 17, 2001, Contact: Ricardo Garcia (787) 888-5640.

EIS No. 010284, Draft EIS, AFS, NM, Talpa-to-Penasco Proposed to Construct and Operate 69 kV Transmission Line, Kit Carson Electric Cooperative, Carson National Forest, Camine Real Ranger District, Taos County, NM, Comment Period Ends: October 01, 2001, Contact: Sher Churchill (505) 758-6200. This document is available on the Internet at http://www.fs.fed.us/r3/carson.

EIS No. 010285, Draft Supplement, AFS, CO, Uncompahgre National Forest Travel Plans Revision, And Forest Plan Amendment, Updated Information, Grand Mesa, Uncompahgre and Gunnison National Forests, Garrison, Hinsdale Mesa, Montrose, Ouray, San Juan Counties, CO, Comment Period Ends: September 17, 2001, Contact: Jeff Burch (970) 874-6600. This document is available on the Internet at www.fs.fed.us/r2/gmug.

EIS No. 010286, Final EIS, FHW, MO, MO-60 Transportation Improvements, East of Willow Springs to West of Van Buren, Funding, Forest Land Acquisition and US Army COE 404 Permit Issuance, ( Job No. J9P0455) Howell, Shannon and Carter Counties, MO , Wait Period Ends: September 7, 2001, Contact: Don Neumann (573) 636-7104.

EIS No. 010287, Final EIS, COE, CA, Delta Wetlands Project, Construction and Operation Water Storage Project on Four Islands in the Sacramento-San Joaquin Delta, Approval of Permits, San Joaquin and Contra Costa Counties, CA , Wait Period Ends: September 4, 2001, Contact: Mike Finan (916) 557-5324.

Dated: July 31, 2001.
Joseph C. Montgomery,
Director, NEPA Compliance Division, Office of Federal Activities.

[FR Doc. 01-19505 Filed 8-2-01; 8:45 am]

BILLING CODE 6560-50-U